DEPARTMENT OF COMMERCE

National Oceanic and Atmospheric Administration

RIN 0648-XC070

Fisheries of the Caribbean, Gulf of Mexico, and South Atlantic; Reef Fish Fishery of the Gulf of Mexico; Exempted Fishing Permit

AGENCY: National Marine Fisheries Service (NMFS), National Oceanic and Atmospheric Administration (NOAA), Commerce.

ACTION: Notice of receipt of an application for an exempted fishing permit; request for comments.

SUMMARY: NMFS announces the receipt of an application for an exempted fishing permit (EFP) from Dr. Chris Koenig (Florida State University) and Dr. Chris Stallings (University of South Florida). If granted, the EFP would authorize the applicants to use trained for-hire fishermen to be able to temporarily possess goliath grouper for non-lethal sampling during the course of their normal fishing activities. This non-lethal sampling would include measuring, tagging, and removing a portion of the goliath grouper dorsal fin rays before releasing the live fish. The intent of this study is to provide regional age structure of recovering goliath grouper populations for fish stock assessments.

DATES: Comments must be received no later than 5 p.m., eastern time, on July 13, 2012.

ADDRESSES: You may submit comments on the application by any of the following methods:

• Email: Peter.Hood@noaa.gov. Include in the subject line of the email comment the following document identifier: “FSU_EFP”.

• Mail: Peter Hood, Southeast Regional Office, NMFS, 263 13th Avenue South, St. Petersburg, FL 33701.

The application and related documents are available for review upon written request to any of the above addresses.

FOR FURTHER INFORMATION CONTACT: Peter Hood, 727-824-5305; email: Peter.Hood@noaa.gov.

SUPPLEMENTARY INFORMATION: The EFP is requested under the authority of the Magnuson-Stevens Fishery Conservation and Management Act (16 U.S.C. 1801 et seq.), and regulations at 50 CFR 600.745(b) concerning exempted fishing.

The described research is part of a life history study of goliath grouper and includes a regional age structure study. This research is funded by NOAA through the Marine Fisheries Initiative (cooperative agreement number NA11NMF4330123). The research is intended to involve federally permitted for-hire fishermen in the collection of biological information on goliath grouper. The proposed collection for scientific research involves activities that could otherwise be prohibited by regulations at 50 CFR part 622, as they pertain to reef fish managed by the Gulf of Mexico Fishery Management Council and to snapper-grouper managed by the South Atlantic Fishery Management Councils (Councils). Specific, otherwise prohibited, Federal regulations that the EFP would authorize include regulations at § 622.32(b)(2)(ii) and (b)(3)(ii) (Prohibited and limited harvest species) and § 622.39(b)(ii) and (d)(ii)(D) (Bag and possession limits).

The applicant requests authorization through the EFP to allow for-hire fishermen to temporarily possess goliath grouper for non-lethal sampling during the course of their normal fishing activities in the Federal waters off Florida. The sampling would occur both state and Federal waters off Florida in both the Gulf of Mexico (Gulf) and the South Atlantic. For sampling in Florida state waters, the applicants have received a permit to non-lethally sample goliath grouper from the Florida Fish and Wildlife Conservation Commission. To participate in this study, for-hire fishermen would be trained by the applicants on how to sample goliath grouper with minimal harm to the fish. Sampling includes measuring, tagging, and removing a portion of the dorsal fin rays before releasing the live fish. The EFP would apply to specifically designated fishers in Gulf Federal waters who would be required to possess a valid Federal Gulf reef fish charter vessel/headboat permit and to designated fishers in South Atlantic Federal waters who would be required to possess a valid South Atlantic snapper-grouper charter vessel/headboat permit.

The goal of the research is to provide better life history information for the next stock assessment. Because the possession of goliath grouper is prohibited in Federal waters, obtaining biological samples through dockside sampling cannot be done. The EFP, if approved, would authorize the sampling of no more than 1,000 goliath grouper from both state and Federal waters from the date of issuance of the EFP through August 28, 2014. These fish would be released alive immediately after sampling. The condition (alive or dead) of the released fish would be assessed after release from the vessel by the crew. The EFP would no longer be valid if there is a mortality of 10 or more fish as a result of the activities taken through this EFP.

NMFS finds this application warrants further consideration. Possible conditions the agency may impose on this permit, if it is indeed granted, include but are not limited to, a prohibition of conducting research within marine protected areas, marine sanctuaries, or special management zones, without additional authorization. A report on the research would be due at the end of the collection period, to be submitted to NMFS and reviewed by the councils.

A final decision on issuance of the EFP will depend on NMFS' review of public comments received on the application, consultations with appropriate fishery management agencies of the affected states, the Councils, and the U.S. Coast Guard, as well as a determination that it is consistent with all applicable laws.

Authority: 16 U.S.C. 1801 et seq.

Dated: June 25, 2012.
Carrie Selberg,
Acting Director, Office of Sustainable Fisheries, National Marine Fisheries Service.

[FR Doc. 2012-15892 Filed 6-27-12; 8:45 am]

BILLING CODE 3510-22-P